DEPARTMENT OF HEALTH AND HUMAN SERVICES

Centers for Disease Control and Prevention

Disease, Disability, and Injury Prevention and Control Special Emphasis Panel (SEP): National Institute for Occupational Safety and Health (NIOSH) Education and Research Center, Program Announcement for Research (PAR) PAR06-485

In accordance with Section 10(a)(2) of the Federal Advisory Committee Act (Pub. L. 92-463), the Centers for Disease Control and Prevention (CDC) announces the aforementioned meeting.

Time and Date: 1 p.m.-2 p.m., March 17, 2008 (Closed).

Place: NIOSH, 2400 Century Parkway, NE., Atlanta, GA 30345, Telephone (866) 649-6988.

Status: The meeting will be closed to the public in accordance with provisions set forth in section 552b(c) (4) and (6), Title 5 U.S.C., and the Determination of the Director, Management Analysis and Services Office, CDC, pursuant to Public Law 92-463.

Matters To Be Discussed: The meeting will include the review, discussion, and evaluation of “NIOSH Education and Research Center, PAR 06-485.”

NIOSH determines that agency business requires its consideration of this matter on less than 15 days notice to the public and that no earlier notice of this meeting was possible.

FOR FURTHER INFORMATION CONTACT: M. Chris Langub, PhD., Scientific Review Officer, NIOSH, CDC, 2400 Century Parkway, NE., Atlanta, GA 30345, Telephone (404) 498-2543.

The Director, Management Analysis and Services Office, has been delegated the authority to sign Federal Register notices pertaining to announcements of meetings and other committee management activities, for both CDC and the Agency for Toxic Substances and Disease Registry.

Dated: March 6, 2008.
Elaine L. Baker,
Director, Management Analysis and Services Office, Centers for Disease Control and Prevention.

[FR Doc. E8-4906 Filed 3-11-08; 8:45 am]

BILLING CODE 4163-18-P